DEPARTMENT OF COMMERCE

National Oceanic and Atmospheric Administration

[RTID 0648-XA730]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Tilefish Advisory Panel will hold a public meeting.

DATES: The meeting will be held on Wednesday, February 17, 2021, from 9 a.m. to 12 p.m. For agenda details, see SUPPLEMENTARY INFORMATION.

ADDRESSES: The meeting will be held via webinar, which can be accessed at: http://mafmc.adobeconnect.com/tf2021ap/. Meeting audio can also be accessed via telephone by dialing 1-800-832-0736 and entering room number 5068609.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this meeting is for the Advisory Panel to develop a fishery performance report (FPR) for both golden and blueline tilefish. The intent of the FPR is to facilitate a venue for structured input from the Advisory Panel for the tilefish specifications processes. The FPR will be used by the MAFMC's Scientific and Statistical Committee and the Tilefish Monitoring Committee when reviewing golden tilefish specifications and setting blueline tilefish specifications.

Special Accommodations

The meeting is physically accessible to people with disabilities. Requests for sign language interpretation or other auxiliary aids should be directed to M. Jan Saunders at the Mid-Atlantic Council Office, (302) 526-5251, at least 5 days prior to the meeting date.

Authority: 16 U.S.C. 1801 et seq.

Dated: January 8, 2021.
Rey Israel Marquez,
Acting Deputy Director, Office of Sustainable Fisheries, National Marine Fisheries Service.

[FR Doc. 2021-00557 Filed 1-12-21; 8:45 am]

BILLING CODE 3510-22-P